DEPARTMENT OF TRANSPORTATION

Research and Special Programs Administration

Office of Hazardous Materials Safety; Notice of Applications for Exemptions

AGENCY: Research and Special Programs Administration, DOT.

ACTION: List of applicants for exemptions.

SUMMARY: In accordance with the procedures governing the application for, and the processing of, exemptions from the Department of Transportation's Hazardous Materials Regulations (49 CFR Part 107, Subpart B), notice is hereby given that the Office of Hazardous Materials Safety has received the applications described herein. Each mode of transportation for which a particular exemption is requested is indicated by a number in the “Nature of Application” portion of the table below as follows: 1—Motor vehicle, 2—Rail freight, 3—Cargo vessel, 4—Cargo aircraft only, 5—Passenger-carrying aircraft.

DATES: Comments must be received on or before April 22, 2002.

ADDRESSES: Records Center, Research and Special Programs Administration, U.S. Department of Transportation, Washington, DC 20590.

Comments should refer to the application number and be submitted in triplicate. If confirmation of receipt of comments is desired, include a self-addressed stamped postcard showing the exemption application number.

FOR FURTHER INFORMATION: Copies of the applications (See Docket Number) are available for inspection at the New Docket Management Facility, PL-401, at the U.S. Department of Transportation, Nassif Building, 400 7th Street, SW., Washington, DC 20590 or at http://dms.dot.gov.

This notice of receipt of applications for new exemptions is published in accordance with Part 107 of the Federal hazardous materials transportation law (49 U.S.C. 5117(b); 49 CFR 1.53(b)).

Dated: Issued in Washington, DC, on March 15, 2002.
R. Ryan Posten,
Exemptions Program Officer, Office of Hazardous Materials Exemptions and Approvals.

New Exemptions
Application No. | Docket No. | Applicant | Regulation(s) affected | Nature of exemption thereof
12941-N |  | The Neiman Marcus Group, Longview, TX. | 49 CFR 172, subparts C, D, E | To authorize the transportation in commerce of certain limited quantities of class 3 material that meet the definition of “consumer commodities” to be transported without marking, labeling and shipping papers. (Modes 1, 2, 3, 4, 5.)
12943-N |  | Nitrochem LLC, Newell, PA. | 49 CFR 172.203(a), 173.31(c)(1), 179.13 | To authorize the transportation in commerce of certain Class 8 materials in DOT Class 120J tank cars with a maximum gross weight on rail greater than 263,000 pounds but not greater than 286,000 pounds. (Mode 2.)
12944-N |  | Wabash Alloys, L.L.C., Wabash, IN. | 49 CFR 174.67(i) & (j) | To authorize rail cars to remain connected while standing without the physical presence of an unloader. (Mode 2.)
12945-N |  | Duratek, Columbia, SC | 49 CFR 173.403, 173.427 | To authorize the one-time transportation in commerce of one pressurizer and five steam generators to be classed as surface contaminated objects with radioactive material, Class 7. (Modes 1, 3.)
12946-N |  | Baker Atlas, Houston, TX | 49 CFR 173.304, 173.40 | To authorize the one-time transportation in commerce of 60 non-DOT specification cylinders for disposal containing chlorine trifluoride, Division 2.3, subsidiary hazards 5.1, 8 PIH Zone B. (Mode 1.)
12949-N |  | Railway Progress Institute, Inc., Alexandria, VA. | 49 CFR 172.302(c), 173.203(a), 173.22(a) & (b), 179.100-20(a), 179.200-24(a) & (b), 179.201-10(a), 179.220-25 | To authorize the transportation in commerce of rail cars with alternative specification plates for use in transporting various hazardous materials. (Mode 2.)
12950-N |  | Walnut Industries, Inc., Bensalem, PA. | 49 CFR 172.203(a), 172.301(c), 176.76(a)(4). | To authorize the manufacture, marking, sale and use of metal or plastic 55 gallon drums of various hazardous materials overpacked in freight container of transport vehicle using a fabric restraint dunnage system. (Mode 3.)
12951-N |  | Borden Chemical Co., Missoula, MT. | 49 CFR 174.67(i) & (j) | To authorize rail cars to remain connected while standing without the physical presence of an unloader. (Mode 2.)
12953-N | RSPA-02-11835 | Westinghouse Electric Company, Pittsburgh, PA. | 49 CFR 173.453(d) | To authorize the transportation in commerce of packages of fissile material that exceed the quantities presently authorized. (Modes 1, 2.)
12955-N |  | Air Cruisers Company, Belmar, NJ. | 49 CFR 172.301(c), 173.219(b)(1). | To authorize the transportation in commerce of life-saving appliances containing a compressed gas cylinder that is filled in excess of its marked service pressure. (Modes 1, 4, 5.)
12956-N | RSPA-02-11834 | Frazee Industries, Incorporated, San Diego, CA. | 49 CFR 172.200 | To authorize the transportation in commerce of combination packagings of 1 gallon and 5 gallon steel containers without overpac or shipping papers from the manufacturing facility to the distribution center. (Mode 1.)
12960-N | RSPA-02-11832 | International Fuel Cells, South Windsor, CT. | 49 CFR 172.200, 172.300, 172.400 | To authorize the transportation in commerce of fuel cells containing small amount of hazardous materials to be shipped without being subject to the HMR. (Modes 1, 4.)

[FR Doc. 02-6822 Filed 3-20-02; 8:45 am]

BILLING CODE 4910-60-M